DEPARTMENT OF TRANSPORTATION

Federal Aviation Administration

Notice of Availability of Finding of No Significant Impact/Record of Decision (FONSI/ROD) and Department of Transportation Act Section 4(f) Determination for the Final Environmental Assessment, Erie International Airport, Erie, PA

AGENCY: Federal Aviation Administration, DOT.

ACTION: Notice.

SUMMARY: The Federal Aviation Administration (FAA) is issuing this notice to advise the public that it has issued a Finding of No Significant Impact/Record of Decision (FONSI/ROD), effective December 8, 2005, for the Final Environmental Assessment that evaluated the proposed extension of Runway 6-24 at Erie International Airport (ERI), Tom Ridge Field, Erie, Pennsylvania.

SUPPLEMENTARY INFORMATION: The FAA has completed and issued its Finding of No Significant Impact/Record of Decision (FONSI/ROD) for the proposed extension of Runway 6-24 at Erie International Airport, Tom Ridge Field, Erie, Pennsylvania. The FONSI/ROD sets out the FAA's consideration of environmental and other factors and is based on the Final Environmental Assessment (EA) for the Proposed Extension of Runway 6-24 at Erie International Airport, Tom Ridge Field, Erie, Pennsylvania dated October 2005 and the Erie International Airport, Tom Ridge Field, Section 4(f) Report dated July 2005. Mitigation measures intended to minimize potential environmental impacts are identified in the FONSI/ROD and would become part of this Runway Extension Project. There are no environmental impacts associated with the preferred alternative that cannot be mitigated below FAA established significance thresholds.

The project considers the proposed extension of Runway 6-24 at Erie International Airport. The runway extension is needed to accommodate existing and future aviation demand as demonstrated in the recently completed airport master plan.

The Final EA presented the purpose and need for the project, a comprehensive analysis of the alternatives to the proposed project, including No-Action Alternative and potential impacts associated with the proposed development of the Runway 6-24 extension at ERI. The Final EA also identified the FAA's Preferred Alternative (Build Alternative 3) and described the proposed Mitigation Program for the Preferred Alternative that will be implemented by the Erie Municipal Airport Authority to off-set unavoidable environmental impacts.

Copies of the FONSI/ROD are available for review by appointment only at the following locations.

Please call to make arrangements for viewing:

Federal Aviation Administration Harrisburg Airports District Office, 3905 Hartzdale Drive, Suite 508, Camp Hill, PA 17011, (717) 730-2830 and Erie Municipal Airport Authority, 4411 W. 12th Street, Erie, PA 16505-3091, (814) 833-4258.

FOR FURTHER INFORMATION CONTACT: Edward S. Gabsewics, CEP, Environmental Protection Specialist, Federal Aviation Administration, Harrisburg Airports District Office, 3905 Hartzdale Drive, Suite 508, Camp Hill, PA 17011, Telephone 717-730-2832. Documents reflecting this FAA action may be reviewed at these same locations.

Issued in Camp Hill, Pennsylvania, December 14, 2005.
Wayne T. Heibeck,
Manager, Harrisburg Airports District Office.

[FR Doc. 05-24700 Filed 12-30-05; 8:45 am]

BILLING CODE 4910-13-M